INTERNATIONAL TRADE COMMISSION

[Investigation Nos. 701-TA-548 and 731-TA-1298 (Review)]

Welded Stainless Steel Pressure Pipe From India

Determinations

On the basis of the record ¹ developed in the subject five-year reviews, the United States International Trade Commission (“Commission”) determines, pursuant to the Tariff Act of 1930 (“the Act”), that revocation of the countervailing and antidumping duty orders on welded stainless steel pressure pipe from India would be likely to lead to continuation or recurrence of material injury to an industry in the United States within a reasonably foreseeable time.

¹ The record is defined in § 207.2(f) of the Commission's Rules of Practice and Procedure (19 CFR 207.2(f)).

Background

The Commission instituted these reviews on October 1, 2021 (86 FR 54470) and determined on January 4, 2022, that it would conduct expedited reviews (87 FR 17336, March 28, 2022).

The Commission made these determinations pursuant to section 751(c) of the Act (19 U.S.C. 1675(c)). It completed and filed its determinations in these reviews on April 29, 2022. The views of the Commission are contained in USITC Publication 5320 (April 2022), entitled Welded Stainless Steel Pressure Pipe from India: Investigation Nos. 701-TA-548 and 731-TA-1298 (First Review).

By order of the Commission.
Issued: April 29, 2022.
Katherine Hiner,
Acting Secretary to the Commission.

[FR Doc. 2022-09600 Filed 5-4-22; 8:45 am]

BILLING CODE 7020-02-P